DEPARTMENT OF STATE

[Public Notice: 12257]

Designation of Three Entities Contributing to Ballistic Missile Proliferation

ACTION: Notice of designation.

SUMMARY: Pursuant to the authority in the Executive Order, “Blocking Property of Weapons of Mass Destruction Proliferators and Their Supporters,” and delegated authority, the Under Secretary of State for Arms Control and International Security, in consultation with the Secretary of the Treasury and the Attorney General, has determined that General Technology Limited, Beijing Luo Luo Technology Development Co Ltd, and Changzhou Utek Composite Company Ltd, engaged, or attempted to engage, in activities or transactions that have materially contributed to, or pose a risk of materially contributing to, the proliferation of weapons of mass destruction or their means of delivery (including missiles capable of delivering such weapons), including any efforts to manufacture, acquire, possess, develop, transport, transfer or use such items, by Pakistan.

DATES: The Under Secretary for Arms Control and International Security made these designations pursuant to E.O. 13382 and delegated authorities, on October 18, 2023.

FOR FURTHER INFORMATION CONTACT: Thomas Zarzecki, Director, Office of Counterproliferation Initiatives, Bureau of International Security and Nonproliferation, Department of State, Washington, DC 20520, tel.: 202-647-5193.

SUPPLEMENTARY INFORMATION: On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

As a result of this action, pursuant to the authority in section 1(a)(ii) of Executive Order 13382, “Blocking Property of Weapons of Mass Destruction Proliferators and Their Supporters,” all property and interests in property of General Technology Limited, Beijing Luo Luo Technology Development Co Ltd, and Changzhou Utek Composite Company Ltd that are in the United States, or that hereafter come within the United States or that are or hereafter come within the possession or control of United States persons are blocked and may not be transferred, paid, exported, withdrawn, or otherwise dealt in.

Identifying information on the designees is as follows:

GENERAL TECHNOLOGY LIMITED, Level 13, 68 Yee Wo Street, Causeway Bay, Hong Kong, China; Organization Established Date 06 Apr 2018; Target Type Private Company; Registration Number 2676701 (Hong Kong) [NPWMD].

BEIJING LUO LUO TECHNOLOGY DEVELOPMENT CO LTD, Room 903, Building 1, No. 4 Wangjing Road, Chaoyang District, Beijing, China; Organization Type: Non-specialized wholesale trade [NPWMD].

CHANGZHOU UTEK COMPOSITE COMPANY LTD (a.k.a. “CUC”), Fuhanyuan 1-812, New North District, Changzhou, Jiangsu 213022, China; website utekcomposite.com; Organization Established Date 04 Jun 2012 [NPWMD].

The three entities above have been added to the list of Specially Designated Nationals and Blocked Persons.

Gonzalo O. Suarez,
Deputy Assistant Secretary, Bureau of International Security and Nonproliferation, Department of State.

[FR Doc. 2023-27544 Filed 12-18-23; 8:45 am]

BILLING CODE 4710-27-P